DEPARTMENT OF LABOR

Office of the Secretary

Agency Information Collection Activities; Submission for OMB Review; Comment Request; Disclosures to Workers Under the Migrant and Seasonal Agricultural Worker Protection Act

ACTION: Notice of availability; request for comments.

SUMMARY: The Department of Labor (DOL) is submitting this Wage and Hour Division (WHD)-sponsored information collection request (ICR) to the Office of Management and Budget (OMB) for review and approval in accordance with the Paperwork Reduction Act of 1995 (PRA). Public comments on the ICR are invited.

DATES: The OMB will consider all written comments that agency receives on or before September 9, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Anthony May by telephone at 202-693-4129 (this is not a toll-free number) or by email at DOL_PRA_PUBLIC@dol.gov.

SUPPLEMENTARY INFORMATION: Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

The Migrant and Seasonal Agricultural Worker Protection Act (MSPA) safeguards migrant and seasonal agricultural workers in their interactions with Farm Labor Contractors, Agricultural Employers and Agricultural Associations, and providers of migrant farm worker housing. See Public Law 97-470. The MSPA requires Farm Labor Contractors, Agricultural Employers, and Agricultural Associations, who recruit, solicit, hire, employ, furnish, transport, or house agricultural workers, as well as providers of migrant housing, to meet certain minimum requirements in their dealings with migrant and seasonal agricultural workers. Various sections of the MSPA require respondents (e.g., Farm Labor Contractors, Agricultural Employers, and Agricultural Associations) to disclose terms and conditions in writing to their workers. MSPA § 201(g) and § 301(f) requires that the DOL make forms available to provide such information. The DOL prints and makes optional-use form WH-516, Worker Information—Terms and Conditions of Employment.

MSPA § 201(d) and § 301(c)—29 U.S.C. 1821(d), 1831(c) and regulations 29 CFR 500.80(a), require each Farm Labor Contractor, Agricultural Employer, and Agricultural Association that employs a migrant or seasonal worker to make, keep, and preserve records for three years for each such worker concerning the: (1) Basis on which wages are paid; (2) number of piece work units earned, if paid on a piece work basis; (3) number of hours worked; (4) total pay period earnings; (5) specific sums withheld and the purpose of each sum withheld; (6) net pay. Respondents are also required to provide an itemized written statement of this information to each migrant and seasonal agricultural worker each pay period. See 29 U.S.C. 1821(d), 1831(c), and 29 CFR 500.1-.80(d). Additionally, MSPA § 201(e) and § 301(d) require each Farm Labor Contractor provide copies of all the records noted above for the migrant and seasonal agricultural workers the contractor has furnished to other Farm Labor Contractors, Agricultural Employers, or Agricultural Associations who use the workers. Respondents must also make and keep certain records. § 201(c) of the MSPA requires all Farm Labor Contractors, Agricultural Employers, and Agricultural Associations providing housing to a migrant agricultural worker to post in a conspicuous place at the site of the housing, or present to the migrant worker, a written statement of any housing occupancy terms and conditions. For additional substantive information about this ICR, see the related notice published in the Federal Register on January 16, 2020 (85 FR 2760).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-WHD.

Title of Collection: Disclosures to Workers Under the Migrant and Seasonal Agricultural Worker Protection Act.

OMB Control Number: 1235-0002.

Affected Public: Private Sector: Businesses or other for-profits and farms.

Total Estimated Number of Respondents: 94,729.

Total Estimated Number of Responses: 71,338,888.

Total Estimated Annual Time Burden: 1,202,228 hours.

Total Estimated Annual Other Costs Burden: $2,853,555.

(Authority: 44 U.S.C. 3507(a)(1)(D))

Dated: August 4, 2020.
Anthony May,
Management and Program Analyst.

[FR Doc. 2020-17369 Filed 8-7-20; 8:45 am]

BILLING CODE 4510-27-P